DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

Jason Elster, Saint Louis University: Based on the report of an investigation conducted by Saint Louis University, Mr. Elster's admission, and additional analysis conducted by ORI in its oversight review, the U.S. Public Health Service (PHS) found that Mr. Elster, former undergraduate research assistant, School of Public Health, Saint Louis University, engaged in scientific misconduct by falsifying or fabricating data in at least eight of the 125 questionnaires he collected with support from Centers for Disease Control and Prevention cooperative agreement U48 CCU710806, “Rural Chronic Disease Prevention Center.”

Specifically, the objective of the questionnaire was to assess the extent of media exposure by the community and opinions regarding local media coverage of health issues as well as to determine baseline health-related behavior. The intent of the study was to use this information in developing effective strategies for delivering information on disease prevention to the public. No publications were affected, but because of the removal of Mr. Elster's 125 questionnaires from the study, interviews with 125 new participants were required to achieve the sample size needed to have sufficient statistical power.

Mr. Elster has entered into a Voluntary Exclusion Agreement (Agreement) with PHS in which he has voluntarily agreed for a period of three (3) years, beginning on November 13, 2001:

(1) To exclude himself from serving in any advisory capacity to PHS, including but not limited to service on any PHS advisory committee, board, and/or peer review committee, or as a consultant; and

(2) That any institution that submits an application for PHS support for a research project on which his participation is proposed or that uses him in any capacity on PHS supported research, or that submits a report of PHS-funded research in which he is involved, must concurrently submit a plan for supervision of his duties to the funding agency for approval. The supervisory plan must be designed to ensure the scientific integrity of Mr. Elster's research contribution. The institution must also submit a copy of the supervisory plan to ORI.

FOR FURTHER INFORMATION CONTACT: Director, Division of Investigative Oversight, Office of Research Integrity, 5515 Security Lane, Suite 700, Rockville, MD 20852, (301) 443-5330.

Chris B. Pascal,
Director, Office of Research Integrity.

[FR Doc. 01-29744 Filed 11-29-01; 8:45 am]

BILLING CODE 4150-31-P